DEPARTMENT OF TRANSPORTATION

Federal Aviation Administration

14 CFR Part 71

[Docket No. FAA-2011-0579; Airspace Docket No. 11-AEA-14]

Amendment of Class D and E Airspace and Revocation of Class E Airspace; Manassas, VA

AGENCY: Federal Aviation Administration (FAA), DOT.

ACTION: Final rule.

SUMMARY: This action amends Class D and Class E airspace areas and removes Class E airspace designated as an extension at Manassas Regional Airport/Harry P. Davis Field, Manassas, VA. A Standard Instrument Approach Procedure has been cancelled. Therefore modification to the airspace areas is required for the safety and airspace management of Instrument Flight Rules (IFR) operations at the airport. This action also notes the name change of the airport.

DATES: Effective date: 0901 UTC, December 15, 2011. The Director of the Federal Register approves this incorporation by reference action under title 1, Code of Federal Regulations, part 51, subject to the annual revision of FAA Order 7400.9 and publication of conforming amendments.

FOR FURTHER INFORMATION CONTACT: John Fornito, Airspace Specialist, Operations Support Group, Eastern Service Center, Air Traffic Organization, Federal Aviation Administration, P.O. Box 20636, Atlanta, Georgia 30320; telephone (404) 305-6364.

SUPPLEMENTARY INFORMATION:

History

On July 1, 2011, the FAA published in the Federal Register a notice of proposed rulemaking (NPRM) to amend Class D and Class E surface airspace and remove Class E airspace designated as an extension at Manassas Regional Airport/Harry P. Davis Field (76 FR 38581). Interested parties were invited to participate in this rulemaking effort by submitting written comments on the proposal to the FAA. No comments were received. Also, the airport name change was inadvertently omitted in the NPRM, and is correctly noted in this rule. Class D and E airspace designations are published in paragraphs 5000, 6002, and 6004, respectively, of FAA Order 7400.9V dated August 9, 2011, and effective September 15, 2011, which is incorporated by reference in 14 CFR 71.1. The Class D and Class E airspace designations listed in this document will be published subsequently in the Order.

The Rule

This action amends Title 14, Code of Federal Regulations (14 CFR) part 71 to amend Class D and E surface airspace at Manassas Regional Airport/Harry P. Davis Field, Manassas, VA. Airspace reconfiguration is necessary due to the cancellation of the VOR approach into the airport. Class E airspace designated as an extension to Class D airspace is no longer needed and is, therefore, removed. This action also notes the airport's name change from Manassas Municipal Airport/Harry P. Davis Airport to Manassas Regional Airport/Harry P. Davis Field. This action enhances the safety and management of IFR operations at the airport.

The FAA has determined that this regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, would not have a significant economic impact on a substantial number of small entities under the criteria of the Regulatory Flexibility Act.

The FAA's authority to issue rules regarding aviation safety is found in Title 49 of the United States Code. Subtitle I, section 106, describes the authority of the FAA Administrator. Subtitle VII, Aviation Programs, describes in more detail the scope of the agency's authority.

This rulemaking is promulgated under the authority described in subtitle VII, part A, subpart I, section 40103. Under that section, the FAA is charged with prescribing regulations to assign the use of airspace necessary to ensure the safety of aircraft and the efficient use of airspace. This regulation is within the scope of that authority as it amends Class D and E airspace at Manassas Regional Airport/Harry P. Davis Field, Manassas, VA.

List of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, signed August 9, 2011, and effective September 15, 2011, is amended as follows:

Paragraph 5000 Class D airspace.

* * * * *

AEA VA D Manassas, VA [Amended]

Manassas Regional Airport/Harry P. Davis Field, VA

(Lat. 38°43′17″ N., long. 77°30′56″ W.)

That airspace extending upward from the surface to but not including 2,000 feet MSL within a 5-mile radius of the Manassas Regional Airport/Harry P. Davis Field, excluding that airspace within the Washington Tri-Area Class B airspace area. This Class D airspace area is effective during the specific dates and times established in advance by a Notice to Airmen. The effective date and time will thereafter be continuously published in the Airport/Facility Directory.

Paragraph 6002 Class E airspace designated as surface areas.

* * * * *

AEA VA E2 Manassas, VA [Amended]

Manassas Regional Airport/Harry P. Davis Field, VA

(Lat. 38°43′17″ N., long. 77°30′56″ W.)

That airspace extending upward from the surface to but not including 2,000 feet MSL within a 5-mile radius of the Manassas Regional Airport/Harry P. Davis Field, excluding that airspace within the Washington Tri-Area Class B airspace area. This Class E airspace area is effective during the specific dates and times established in advance by a Notice to Airmen. The effective date and time will thereafter be continuously published in the Airport/Facility Directory.

Paragraph 6004 Class E airspace designated as an Extension to a Class D surface area.

* * * * *

AEA VA E4 Manassas, VA [Removed]

Issued in College Park, Georgia, on September 19, 2011.
Mark D. Ward,
Manager, Operations Support Group, Eastern Service Center, Air Traffic Organization.

[FR Doc. 2011-24692 Filed 9-26-11; 8:45 am]

BILLING CODE 4910-13-P